DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76, FR 24886-24887, dated May 3, 2011) is amended to reflect the reorganization of the National Center for Injury Prevention and Control, Office of Noncommunicable Diseases, Injury and Environmental Health, Centers for Disease Control and Prevention.

Section C-B, Organization and Functions, is hereby amended as follows:

After the title and functional statement for the Division of Violence Prevention (CUHC), delete in their entirety the title and functional statement for the Office of the Director, (CUHC1) and insert the following:

Office of the Director, (CUHC1). (1) Establishes and interprets policies and determines program priorities; (2) provides national and international leadership and guidance in policy formation and program planning, development, and evaluation; (3) provides administrative, fiscal, and technical support for division programs and units; (4) assures multi-disciplinary collaboration in violence prevention and control activities; (5) provides leadership for developing research in etiologic, epidemiologic, and behavioral aspects of violence prevention and control; (6) coordinates domestic and international activities within the division and with others involved in violence prevention; (7) prepares and monitors clearance of manuscripts for publication in scientific and technical journals and publications, including articles and guidelines published in the MMWR, and other publications for the public; (8) prepares, tracks and coordinates responses to all inquiries from Congress, the public, and the Department of Health and Human Services; (9) develops and produces communication tools and public affairs strategies to meet the needs of the division programs and mission; (10) develops health communication campaigns and guides the production and distribution of print, broadcast, and electronic materials for use in programs at the national and state levels; (11) provides technical assistance and consultation to domestic and international governmental and non-governmental organizations on violence prevention; and (12) establishes linkages and collaborates, as appropriate, with other divisions and offices in NCIPC, other CIOs throughout CDC, and with national and international prevention partners that impact on violence prevention programs.

Delete in their entirety items 10 through 13 of the functional statement for the Program Implementation and Dissemination Branch (CUHCD).

Dated: May 13 2011.
William P. Nichols,
Chief Operating Officer, Centers for Disease Control and Prevention.

[FR Doc. 2011-12570 Filed 5-23-11; 8:45 am]

BILLING CODE 4163-18-M